SECURITIES AND EXCHANGE COMMISSION

Submission of OMB Review; Comment Request

Upon Written Request; Copies Available From: Securities and Exchange Commission, Office of Filings and Information Services, Washington, DC 20549

Extension:

Rule 19d-1, SEC File No. 270-242, OMB Control No. 3235-0206,

Rule 19d-3, SEC File No. 270-245, OMB Control No. 3235-0204,

Rule 19h-1, SEC File No. 270-247, OMB Control No. 3235-0259

Notice is hereby given that, pursuant to the Paperwork Reduction Act of 1995 (44 U.S.C. 3501 et seq.), the Securities and Exchange Commission (“Commission”) has submitted to the Office of Management and Budget (“OMB”) requests for extension of the previously approved collections of information discussed below.

Rule 19d-1 under the Securities Exchange Act of 1934 (“Exchange Act”) prescribes the form and content of notices to be filed with the Commission by self-regulatory organizations (“SROs”) for which the Commission is the appropriate regulatory agency concerning the following final SRO actions: (1) disciplinary sanctions (including summary suspensions); (2) denials of membership, participation or association with a member; and (3) prohibitions or limitations on access to SRO services.

The Rule enables the Commission to obtain reports from the SROs containing information regarding SRO determinations to discipline members or associated persons of members, deny membership or participation or association with a member, and similar adjudicated findings. The Rule requires that such actions be promptly reported to the Commission. The Rule also requires that the reports and notices supply sufficient information regarding the background, factual basis and issues involved in the proceeding to enable the Commission (1) to determine whether the matter should be called up for review on the Commission's own motion and (2) to ascertain generally whether the SRO has adequately carried out its responsibilities under the Exchange Act.

It is estimated that 10 respondents will utilize this application procedure annually, with a total burden of 1,750 hours, upon past submissions. This figure is based on 10 respondents, spending approximately 275 hours each. Each respondent submitted approximately 110 responses. The staff estimates that the average number of hours necessary to comply with the requirements of Rule 19d-1 for each submission is 2.5 hours. The average cost per hour, per each submission is approximately $101. Therefore, the total cost of compliance for all the respondents is $277,750. (10 respondents × 110 responses per respondent × 2.5 hrs per response × $101 per hour).

The filing of notices pursuant to the Rule is mandatory for the SROs, but does not involve the collection of confidential information. Rule 19d-1 does not have a retention of records requirement.

Rule 19d-3 under the Exchange Act prescribes the form and content of applications to the Commission for review of final disciplinary sanctions, denials of membership, participation or association or prohibitions or limitations of access to services that are imposed by SROs. The Commission uses the information provided in the application filed pursuant to Rule 19d-3 to review final actions taken by SROs including: (1) Disciplinary sanctions; (2) denials of membership, participation or association; and (3) prohibitions on or limitations of access to SRO services.

It is estimated that approximately 50 respondents will utilize this application procedure annually, with a total burden for all respondents of 900 hours, based upon past submissions. The staff estimates that the average number of hours necessary to comply with the requirements of Rule 19d-3 to complete each submission is 18 hours. The average cost per hour is approximately $101, for completion of each submission. Therefore, the total cost of compliance for all respondents, per year is $90,900. (50 submissions × 18 hours × $101 per hour).

A respondent is not required to retain the Rule 19d-3 submission for any specified period of time. The filing of a motion seeking review of a final action is mandatory only if the respondent wants Commission review. The submission does not involve the collection of confidential information.

Rule 19h-1 under the Exchange Act prescribes the form and content of notices and applications by SROs regarding proposed admissions to, or continuances in, membership, participation or association with a member of any person subject to a statutory disqualification.

The Commission uses the information provided in the submissions filed pursuant to Rule 19h-1 to review decisions of SROs to permit the entry into or continuance in the securities business of persons who have committed serious misconduct. The filings submitted pursuant to the Rule also permit inclusion of an application to the Commission for consent to associate with a member of an SRO notwithstanding a Commission order barring such association.

The Commission reviews filings made pursuant to the Rule to ascertain whether it is in the pubic interest to permit the employment in the securities business of persons subject to statutory disqualification. The filings contain information that is essential to the staff's review and ultimate determination on whether an association or employment is in the public interest and consistent with investor protection.

It is estimated that approximately 5 respondents will make submissions pursuant to this Rule annually with a total burden of 225 hours for all respondents to complete all submissions. The staff estimates that the average number of hours necessary to comply with the requirements of Rule 19h-1 is 4.5 hours per submission. The average cost per hour is approximately $101 for completion of each submission. Therefore, the total cost of compliance for all respondents is $22,725. (50 responses × 4.5 hours per response × $101 per hour).

A respondent is not required to retain the Rule 19h-1 submission for any specified period of time. The filing of notices is mandatory but does not involve the collection of confidential information.

Please note that an agency may not conduct or sponsor, and a person is not required to respond to, a collection of information unless it displays a currently valid control number.

General comments regarding the above information should be directed to the following persons: (i) Desk Officer for the Securities and Exchange Commission, Office of Information and Regulatory Affairs, Office of Management and Budget, Room 10102, New Executive Office Building, Washington, D.C. 20503; and (ii) Michael E. Bartell, Associate Executive Director, Office of Information Technology, Securities and Exchange Commission, 450 Fifth Street, NW., Washington, DC 20549. Comments must be submitted to OMB within 30 days of this notice.

Dated: June 15, 2001.
Margaret H. McFarland,
Deputy Secretary.

[FR Doc. 01-15625 Filed 6-20-01; 8:45 am]

BILLING CODE 8010-01-M